DEPARTMENT OF HOUSING AND URBAN DEVELOPMENT

[Docket No. FR-7084-N-01]

60-Day Notice of Proposed Information Collection: Section 3 Utilization Tools—HUD Form 4737, A-D; OMB Control No.: 2501-0040

AGENCY: Office of Field Policy and Management, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 9, 2024.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal and comments should refer to the proposal by name and/or OMB Control Number and should be sent to: Amanda Herrmann Vasquez, Office of Field Policy and Management, Department of Housing and Urban Development, 300 Pearl Street, Suite Room 301, Buffalo, NY 14202 or the number (202-402-6601) this is not a toll free number or email at Amanda.L.HerrmannVasquez@hud.gov or a copy of the proposed forms or other available information.

FOR FURTHER INFORMATION CONTACT: Anna Guido, Paperwork Reduction Act Compliance Officer, Reports Management Officer, REE, Department of Housing and Urban Development, 451 7th Street SW, Washington, DC 20410; email at Anna.P.Guido@hud.gov, 202-402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Anna Guido.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Collection: Section 3 Utilization Tools.

OMB Control Number, if applicable: 2501-0040.

Description of the need for the information and proposed use: This request is for a new collection to provide a voluntary sample tool for Section 3 related entities, to document the Section 3 labor hours for Section 3 workers and Section 3 Business concerns participating in housing and community development programs with HUD funding. This collection is reflective of the changes to the Section 3 regulation, published in the Federal Register 9/29/2020. The completion and submission of this Section 3 Utilization Plan meets the provisions of Section 3 found in 24 CFR part 75, which is the current regulation published pursuant to requirements in 12 U.S.C. 1701u, for the entities identified within this plan. Grantees of HUD funded projects can use this as a sample tool to document their Section 3 labor hours. This collection is not a requirement but is to be used as a sample if employers do not already have a process in place to document Section 3 labor hours. The Section 3 regulation requires each recipient to maintain adequate records demonstrating compliance with the regulation. (24 CFR 75.33(a)).

Agency form numbers, if applicable: HUD Forms 4737, 4737 A-D.

Estimation of the total numbers of hours needed to prepare the information collection including number of respondents, frequency of response, and hours of response:

Information collection | Number of respondents | Frequency of response | Responses per annum | Burden hour per response | Annual burden hours | Hourly cost per response | Annual cost
HUD Form 4737 Section 3 Utilization Tracker: Business Labor Hours | 2,500.00 | 1 | 2,500.00 | 5 | 12,500.00 | $38.55 | $481,875.00
HUD Form 4737A Section 3 Utilization Tracker: Section 3 Labor Hours | 2,500.00 | 1 | 2,500.00 | 5 | 12,500.00 | 38.55 | 481,875.00
HUD Form 4737B Section 3 Sample Utilization Tool: PHA Financial Assistance | 2,500.00 | 1 | 2,500.00 | 1.5 | 3,750.00 | 38.55 | 144,562.50
HUD Form 4737C HUD Section 3 Sample Utilization Tool: Section 3 Projects with HCD Funding | 2,500.00 | 1 | 2,500.00 | 1.5 | 3,750.00 | 38.55 | 144,562.50
HUD Form 4737D HUD Funding Tracker for Section 3 | 2,500.00 | 1 | 2,500.00 | 3 | 7,500.00 | 38.55 | 289,125.00
Total | 12,500.00 |  |  | 16 | 40,000.00 |  | 1,542,000.00

Authority: The Paperwork Reduction Act of 1995, 44 U.S.C. chapter 35, as amended.

Christopher D. Taylor,
National Director, Office of Field Policy and Management.

[FR Doc. 2024-12634 Filed 6-7-24; 8:45 am]

BILLING CODE 4210-67-P